FARM CREDIT ADMINISTRATION

Farm Credit Administration Board; Regular Meeting

AGENCY: Farm Credit Administration.

SUMMARY: Notice is hereby given, pursuant to the Government in the Sunshine Act (5 U.S.C. 552b(e)(3)), of the forthcoming regular meeting of the Farm Credit Administration Board (Board).

DATES AND TIMES: The regular meeting of the Board will be held at the offices of the Farm Credit Administration in McLean, Virginia, on January 11, 2001, from 9 a.m. until such time as the Board concludes its business.

FOR FURTHER INFORMATION CONTACT: Kelly Mikel Williams, Secretary to the Farm Credit Administration Board, (703) 883-4009, TDD (703) 883-4444.

ADDRESSES: Farm Credit Administration, 1501 Farm Credit Drive, McLean, Virginia 22102-5090.

SUPPLEMENTARY INFORMATION: This meeting of the Board will be open to the public (limited space available). In order to increase the accessibility to Board meetings, persons requiring assistance should make arrangements in advance. The matters to be considered at the meeting are:

Open Session

A. Approval of Minutes

—December 14, 2000 (Open and Closed)

B. Reports

—Corporate Approvals Report

C. New Business

1. Regulations

—Organization; General Provisions; Disclosure to Shareholders; National Charters [12 CFR parts 611, 618 and 620] (Proposed)

Dated: January 5, 2001.
Kelly Mikel Williams,
Secretary, Farm Credit Administration Board.

[FR Doc. 01-781 Filed 1-5-01; 4:58 pm]

BILLING CODE 6705-01-P